DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2008 Panel of the Survey of Income and Program Participation, Wave 2 Topical Modules.

Form Number(s): SIPP 28205(L) Director's Letter; SIPP/CAPI Automated Instrument; SIPP 28003 Reminder Card.

OMB Control Number: 0607-0944.

Type of Request: Revision of a currently approved collection.

Burden Hours: 143,303.

Number of Respondents: 94,500.

Average Hours Per Response: 30 minutes.

Needs and Uses: The U.S. Census Bureau requests authorization from the Office of Management and Budget (OMB) to conduct the Wave 2 interview for the 2008 Panel of the Survey of Income and Program Participation (SIPP). The core SIPP and reinterview instruments were also cleared under this OMB control number.

The SIPP represents a source of information for a wide variety of topics and allows information for separate topics to be integrated to form a single and unified database so that the interaction between tax, transfer, and other government and private policies can be examined. Government domestic policy formulators depend heavily upon the SIPP information concerning the distribution of income received directly as money or indirectly as in-kind benefits and the effect of tax and transfer programs on this distribution. They also need improved and expanded data on the income and general economic and financial situation of the U.S. population. The SIPP has provided these kinds of data on a continuing basis since 1983, permitting levels of economic well-being and changes in these levels to be measured over time.

The survey is molded around a central “core” of labor force and income questions that remain fixed throughout the life of a panel. The core is supplemented with questions designed to answer specific needs, such as estimating eligibility for government programs, examining pension and health care coverage, and analyzing individual net worth. These supplemental questions are included with the core and are referred to as “topical modules.”

The topical modules for the 2008 Panel Wave 2 are Work History, Education and Training History, Marital History, Fertility History, Migration History, Household Relationships, and Tax Rebate. These topical modules were previously conducted in the SIPP 2004 Panel Wave 2 instrument, with the exception of the Tax Rebate topical module, which was previously conducted in the SIPP 2008 Wave 1 instrument. Wave 2 interviews will be conducted from January through April 2009.

The SIPP is designed as a continuing series of national panels of interviewed households that are introduced every few years, with each panel having durations of approximately 3 to 4 years. The 2008 Panel is scheduled for four years and four months and will include thirteen waves, which will begin September 1, 2008. All household members 15 years old or over are interviewed using regular proxy-respondent rules. They are interviewed a total of thirteen times (thirteen waves), at 4-month intervals, making the SIPP a longitudinal survey. Sample people (all household members present at the time of the first interview) who move within the country and reasonably close to a SIPP primary sampling unit (PSU) will be followed and interviewed at their new address. Individuals 15 years old or over who enter the household after Wave 1 will be interviewed; however, if these people move, they are not followed unless they happen to move along with a Wave 1 sample individual.

The OMB has established an Interagency Advisory Committee to provide guidance for the content and procedures for the SIPP. Interagency subcommittees were set up to recommend specific areas of inquiries for supplemental questions. The Census Bureau developed the 2008 Panel Wave 2 topical modules through consultation with the SIPP OMB Interagency Subcommittee. The questions for the topical modules address major policy and program concerns as stated by this subcommittee and the SIPP Interagency Advisory Committee.

Data provided by the SIPP are being used by economic policymakers, the Congress, state and local governments, and federal agencies that administer social welfare or transfer payment programs, such as the Department of Health and Human Services and the Department of Agriculture.

The knowledge gained from these “core” items will be of limited value without information about how the respondents reached their status at the time of the Wave 1 interview. The core, therefore, is also supplemented with questions designed to answer specific needs, such as estimating eligibility for government programs, examining pension and health care coverage, and analyzing financing of post-secondary education. These supplemental questions are included with the core and are referred to as “topical modules.” The questions in these topical modules will help us reduce, if not eliminate, the “left-censoring” analysis problem that occurs in nearly all longitudinal surveys and cited as a serious concern by our data users. Left-censoring refers to the experiences of individuals (or other units of longitudinal analysis) prior to the start of the longitudinal study period.

The questions for these topical modules address major policy and program concerns. Each component is intended to provide explanatory data describing likely relationships between earlier life-course experiences and current socioeconomic status. Personal history data, when linked with data derived from the panel interviews, yield a powerful set of explanatory indicators, which help analysts more fully understand associations between social, demographic, and economic events.

Affected Public: Individuals or households.

Frequency: Every 4 months.

Respondent's Obligation: Voluntary.

Legal Authority: Title 13, United States Code, Section 182.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: September 3, 2008.
Gwellnar Banks,
Management Analyst, Office of the Chief Information Officer.

[FR Doc. E8-20782 Filed 9-8-08; 8:45 am]

BILLING CODE 3510-07-P